DEPARTMENT OF TRANSPORTATION

Federal Aviation Administration

14 CFR Part 39

[Docket No. FAA-2015-1990; Directorate Identifier 2015-NM-027-AD; Amendment 39-18364; AD 2016-01-05]

RIN 2120-AA64

Airworthiness Directives; The Boeing Company Airplanes

AGENCY: Federal Aviation Administration (FAA), DOT.

ACTION: Final rule.

SUMMARY: We are adopting a new airworthiness directive (AD) for certain The Boeing Company Model 737-400 series airplanes, as modified by a certain supplemental type certificate. This AD was prompted by the discovery of a design drawing error regarding placards that identified incorrect squibs and pressure switches for certain fire extinguisher bottles. This AD requires a detailed inspection of certain cargo placards to determine if they are the correct placards and in the correct location, a detailed inspection of the harnesses to verify that they are marked and installed correctly, and corrective action if necessary. We are issuing this AD to detect and correct incorrectly installed harnesses for the cargo fire suppression system bottles, which could result in an incorrect activation sequence of the bottles, the inability to suppress a cargo fire quickly, and a possible uncontrollable fire.

DATES: This AD is effective February 17, 2016.

The Director of the Federal Register approved the incorporation by reference of a certain publication listed in this AD as of February 17, 2016.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-1990.

Examining the AD Docket

You may examine the AD docket on the Internet at http://www.regulations.gov by searching for and locating Docket No. FAA-2015-1990; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Paul DeVore, Aerospace Engineer, Systems and Propulsion Branch, ACE-116W, FAA, Wichita ACO, 1801 Airport Road, Room 100, Mid-Continent Airport, Wichita, KS 67209; phone: 316-946-4142; fax: 316-946-4107; email: paul.devore@faa.gov.

SUPPLEMENTARY INFORMATION:

Discussion

We issued a notice of proposed rulemaking (NPRM) to amend 14 CFR part 39 by adding an AD that would apply to certain The Boeing Company Model 737-400 series airplanes, as modified by a certain supplemental type certificate. The NPRM published in the Federal Register on July 2, 2015 (80 FR 38033). The NPRM was prompted by the discovery of a design drawing error regarding placards that identified incorrect squibs and pressure switches for certain fire extinguisher bottles. The NPRM proposed to require a detailed inspection of certain cargo placards to determine if they are the correct placards and in the correct location, a detailed inspection of the harnesses to verify that they are marked and installed correctly, and corrective action if necessary. We are issuing this AD to detect and correct incorrectly installed harnesses for the cargo fire suppression system bottles, which could result in an incorrect activation sequence of the bottles, the inability to suppress a cargo fire quickly, and a possible uncontrollable fire.

Comments

We gave the public the opportunity to participate in developing this AD. We have considered the comments received. The European Aviation Safety Agency stated that it is following the progress of this activity of the NPRM (80 FR 38033, July 2, 2015). Boeing stated that the NPRM does not address any Boeing designs; therefore, Boeing can neither review the data, nor comment on the content of the NPRM, and that no file attachment accompanies its comment.

Conclusion

We reviewed the relevant data, considered the comments received, and determined that air safety and the public interest require adopting this AD as proposed except for minor editorial changes. We have determined that these minor changes:

• Are consistent with the intent that was proposed in the NPRM (80 FR 38033, July 2, 2015) for correcting the unsafe condition; and

• Do not add any additional burden upon the public than was already proposed in the NPRM (80 FR 38033, July 2, 2015).

Related Service Information Under 1 CFR Part 51

We reviewed Advanced Aircraft Extinguishers Service Bulletin TFA10-26-0020, Revision IR, dated January 12, 2015. The service information describes procedures for a detailed inspection of Advanced Aircraft Extinguishers cargo fire protection system placards to determine if they are the correct placards and in the correct location, and applicable corrective actions; and a detailed inspection of the harnesses to verify that they are correctly marked and installed, and doing steps C.(5) through C.(11) of Advanced Aircraft Extinguishers Service Bulletin TFA10-26-0020, Revision IR, dated January 12, 2015, if necessary. This service information is reasonably available because the interested parties have access to it through their normal course of business or by the means identified in the ADDRESSES section.

Costs of Compliance

We estimate that this AD affects 3 airplanes of U.S. registry.

We estimate the following costs to comply with this AD:

Estimated Costs
Action | Labor cost | Parts cost | Cost per product | Cost on U.S. operators
Detailed inspection | 2 work-hours × $85 per hour = $170 | N/A | $170 | $510

We estimate the following costs to do any necessary corrective actions that will be required based on the results of the inspection. We have no way of determining the number of aircraft that might need these corrective actions:

On-Condition Costs
Action | Labor cost | Parts cost | Cost per product
Corrective actions | 2 work-hours × $85 per hour = $170 | $900 | $1,070

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-01-05 The Boeing Company: Amendment 39-18364; Docket No. FAA-2015-1990; Directorate Identifier 2015-NM-027-AD.

(a) Effective Date

This AD is effective February 17, 2016.

(b) Affected ADs

None.

(c) Applicability

This AD applies to The Boeing Company Model 737-400 series airplanes, certificated in any category, having serial numbers 23865, 24231, 24706, 24474, 25417, 27003, 27149, 25375, 26281, 28661, and 28881, as modified by Supplemental Type Certificate ST01114WI (http://rgl.faa.gov/Regulatory_and_Guidance_Library/rgstc.nsf/0/f9490633c04cbc8286257301006ed621/$FILE/ST01114WI.pdf).

(d) Subject

Air Transport Association (ATA) of America Code 26, Fire Protection.

(e) Unsafe Condition

This AD was prompted by the discovery of a design drawing error regarding placards that identified incorrect squibs and pressure switches for certain fire extinguisher bottles. We are issuing this AD to detect and correct incorrectly installed harnesses for the cargo fire suppression system bottles, which could result in an incorrect activation sequence of the bottles, the inability to suppress a cargo fire quickly, and a possible uncontrollable fire.

(f) Compliance

Comply with this AD within the compliance times specified, unless already done.

(g) Placard Inspection

Within 6 months after effective date of this AD, do a detailed inspection of Advanced Aircraft Extinguishers cargo fire protection system (FPS) placards to determine if they are the correct placards and in the correct location, and do all applicable corrective actions, in accordance with the “SERVICE BULLETIN INSTRUCTIONS” of Advanced Aircraft Extinguishers Service Bulletin TFA10-26-0020, Revision IR, dated January 12, 2015. Do all applicable corrective actions before further flight.

(h) Harness Inspection

Within 6 months after the effective date of this AD, do a detailed inspection of the harnesses to verify that they are correctly marked and installed, in accordance with the “SERVICE BULLETIN INSTRUCTIONS” of Advanced Aircraft Extinguishers Service Bulletin TFA10-26-0020, Revision IR, dated January 12, 2015. If any harness is not marked or installed correctly, before further flight, do steps C.(5) through C.(11) specified in and in accordance with the “SERVICE BULLETIN INSTRUCTIONS” of Advanced Aircraft Extinguishers Service Bulletin TFA10-26-0020, Revision IR, dated January 12, 2015, except as required by paragraph (i) of this AD.

(i) Exception to the Service Information Specification

Where Advanced Aircraft Extinguishers Service Bulletin TFA10-26-0020, Revision IR, dated January 12, 2015, specifies contacting the manufacturer for appropriate action: Before further flight, repair in accordance with a method approved by the Manager, Wichita Aircraft Certification Office (ACO), FAA.

(j) Special Flight Permit

Special flight permits may be issued in accordance with sections 21.197 and 21.199 of the Federal Aviation Regulations (14 CFR 21.197 and 21.199) to operate the airplane, provided the airplane does not carry cargo in the lower cargo bay.

(k) Alternative Methods of Compliance (AMOCs)

(1) The Manager, Wichita ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD.

(2) Before using any approved AMOC, notify your appropriate principal inspector, or lacking a principal inspector, the manager of the local flight standards district office/certificate holding district office.

(3) Except as required by paragraph (i) of this AD: For service information that contains steps that are labeled as Required for Compliance (RC), the provisions of paragraphs (k)(3)(i) and (k)(3)(ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

For more information about this AD, contact Paul C. DeVore, Aerospace Engineer, Systems and Propulsion Branch, ACE-116W, FAA, Wichita ACO, 1801 Airport Road, Room 100, Mid-Continent Airport, Wichita, KS 67209; phone: 316-946-4142; fax: 316-946-4107; email: paul.devore@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Advanced Aircraft Extinguishers Service Bulletin TFA10-26-0020, Revision IR, dated January 12, 2015.

(ii) Reserved.

(3) For service information identified in this AD, contact Boeing Commercial Airplanes, Attention: Data & Services Management, P. O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 28, 2015.
Philip Forde,
Acting Manager, Transport Airplane Directorate, Aircraft Certification Service.

[FR Doc. 2016-00004 Filed 1-12-16; 8:45 am]

BILLING CODE 4910-13-P